NUCLEAR REGULATORY COMMISSION

[NRC-2024-0087]

Monthly Notice; Applications and Amendments to Facility Operating Licenses and Combined Licenses Involving No Significant Hazards Considerations

AGENCY: Nuclear Regulatory Commission.

ACTION: Monthly notice.

SUMMARY: Pursuant to section 189a.(2) of the Atomic Energy Act of 1954, as amended (the Act), the U.S. Nuclear Regulatory Commission (NRC) is publishing this regular monthly notice. The Act requires the Commission to publish notice of any amendments issued, or proposed to be issued, and grants the Commission the authority to issue and make immediately effective any amendment to an operating license or combined license, as applicable, upon a determination by the Commission that such amendment involves no significant hazards consideration (NSHC), notwithstanding the pendency before the Commission of a request for a hearing from any person.

DATES: Comments must be filed by June 13, 2024. A request for a hearing or petitions for leave to intervene must be filed by July 15, 2024. This monthly notice includes all amendments issued, or proposed to be issued, from March 29, 2024, to April 25, 2024. The last monthly notice was published on April 16, 2024.

ADDRESSES: You may submit comments by any of the following methods; however, the NRC encourages electronic comment submission through the Federal rulemaking website.

• Federal rulemaking website: Go to https://www.regulations.gov and search for Docket ID NRC-2024-0087. Address questions about Docket IDs in Regulations.gov to Stacy Schumann; telephone: 301-415-0624; email: Stacy.Schumann@nrc.gov. For technical questions, contact the individual listed in the FOR FURTHER INFORMATION CONTACT section of this document.

• Mail comments to: Office of Administration, Mail Stop: TWFN-7-A60M, U.S. Nuclear Regulatory Commission, Washington, DC 20555-0001, ATTN: Program Management, Announcements and Editing Staff.

For additional direction on obtaining information and submitting comments, see “Obtaining Information and Submitting Comments” in the SUPPLEMENTARY INFORMATION section of this document.

FOR FURTHER INFORMATION CONTACT: Angela Baxter, Office of Nuclear Reactor Regulation, U.S. Nuclear Regulatory Commission, Washington, DC 20555-0001, telephone: 301-415-8209; email: Angela.Baxter@nrc.gov.

SUPPLEMENTARY INFORMATION:

I. Obtaining Information and Submitting Comments

A. Obtaining Information

Please refer to Docket ID NRC-2024-0087, facility name, unit number(s), docket number(s), application date, and subject when contacting the NRC about the availability of information for this action. You may obtain publicly available information related to this action by any of the following methods:

• Federal Rulemaking Website: Go to https://www.regulations.gov and search for Docket ID NRC-2024-0087.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, at 301-415-4737, or by email to PDR.Resource@nrc.gov. The ADAMS accession number for each document referenced (if it is available in ADAMS) is provided the first time that it is mentioned in this document.

• NRC's PDR: The PDR, where you may examine and order copies of publicly available documents, is open by appointment. To make an appointment to visit the PDR, please send an email to PDR.Resource@nrc.gov or call 1-800-397-4209 or 301-415-4737, between 8 a.m. and 4 p.m. eastern time (ET), Monday through Friday, except Federal holidays.

B. Submitting Comments

The NRC encourages electronic comment submission through the Federal rulemaking website (https://www.regulations.gov). Please include Docket ID NRC-2024-0087, facility name, unit number(s), docket number(s), application date, and subject, in your comment submission.

The NRC cautions you not to include identifying or contact information that you do not want to be publicly disclosed in your comment submission. The NRC will post all comment submissions at https://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment into ADAMS.

II. Notice of Consideration of Issuance of Amendments to Facility Operating Licenses and Combined Licenses and Proposed No Significant Hazards Consideration Determination

For the facility-specific amendment requests shown in this notice, the Commission finds that the licensees' analyses provided, consistent with section 50.91 of title 10 of the Code of Federal Regulations (10 CFR) “Notice for public comment; State consultation,” are sufficient to support the proposed determinations that these amendment requests involve NSHC. Under the Commission's regulations in 10 CFR 50.92, operation of the facilities in accordance with the proposed amendments would not (1) involve a significant increase in the probability or consequences of an accident previously evaluated; or (2) create the possibility of a new or different kind of accident from any accident previously evaluated; or (3) involve a significant reduction in a margin of safety.

The Commission is seeking public comments on these proposed determinations. Any comments received within 30 days after the date of publication of this notice will be considered in making any final determinations.

Normally, the Commission will not issue the amendments until the expiration of 60 days after the date of publication of this notice. The Commission may issue any of these license amendments before expiration of the 60-day period provided that its final determination is that the amendment involves NSHC. In addition, the Commission may issue any of these amendments prior to the expiration of the 30-day comment period if circumstances change during the 30-day comment period such that failure to act in a timely way would result, for example in derating or shutdown of the facility. If the Commission takes action on any of these amendments prior to the expiration of either the comment period or the notice period, it will publish in the Federal Register a notice of issuance. If the Commission makes a final NSHC determination for any of these amendments, any hearing will take place after issuance. The Commission expects that the need to take action on any amendment before 60 days have elapsed will occur very infrequently.

A. Opportunity To Request a Hearing and Petition for Leave To Intervene

Within 60 days after the date of publication of this notice, any person (petitioner) whose interest may be affected by any of these actions may file a request for a hearing and petition for leave to intervene (petition) with respect to that action. Petitions shall be filed in accordance with the Commission's “Agency Rules of Practice and Procedure” in 10 CFR part 2. Interested persons should consult a current copy of 10 CFR 2.309. If a petition is filed, the Commission or a presiding officer will rule on the petition and, if appropriate, a notice of a hearing will be issued.

Petitions must be filed no later than 60 days from the date of publication of this notice in accordance with the filing instructions in the “Electronic Submissions (E-Filing)” section of this document. Petitions and motions for leave to file new or amended contentions that are filed after the deadline will not be entertained absent a determination by the presiding officer that the filing demonstrates good cause by satisfying the three factors in 10 CFR 2.309(c)(1)(i) through (iii).

If a hearing is requested, and the Commission has not made a final determination on the issue of no significant hazards consideration, the Commission will make a final determination on the issue of no significant hazards consideration, which will serve to establish when the hearing is held. If the final determination is that the amendment request involves no significant hazards consideration, the Commission may issue the amendment and make it immediately effective, notwithstanding the request for a hearing. Any hearing would take place after issuance of the amendment. If the final determination is that the amendment request involves a significant hazards consideration, then any hearing held would take place before the issuance of the amendment unless the Commission finds an imminent danger to the health or safety of the public, in which case it will issue an appropriate order or rule under 10 CFR part 2.

A State, local governmental body, Federally recognized Indian Tribe, or designated agency thereof, may submit a petition to the Commission to participate as a party under 10 CFR 2.309(h) no later than 60 days from the date of publication of this notice. Alternatively, a State, local governmental body, Federally recognized Indian Tribe, or agency thereof may participate as a non-party under 10 CFR 2.315(c).

For information about filing a petition and about participation by a person not a party under 10 CFR 2.315, see ADAMS Accession No. ML20340A053 (https://adamswebsearch2.nrc.gov/webSearch2/main.jsp?AccessionNumber=ML20340A053) and on the NRC's public website at https://www.nrc.gov/about-nrc/regulatory/adjudicatory/hearing.html#participate.

B. Electronic Submissions (E-Filing)

All documents filed in NRC adjudicatory proceedings, including documents filed by an interested State, local governmental body, Federally recognized Indian Tribe, or designated agency thereof that requests to participate under 10 CFR 2.315(c), must be filed in accordance with 10 CFR 2.302. The E-Filing process requires participants to submit and serve all adjudicatory documents over the internet, or in some cases, to mail copies on electronic storage media, unless an exemption permitting an alternative filing method, as further discussed, is granted. Detailed guidance on electronic submissions is located in the “Guidance for Electronic Submissions to the NRC” (ADAMS Accession No. ML13031A056) and on the NRC's public website at https://www.nrc.gov/site-help/e-submittals.html.

To comply with the procedural requirements of E-Filing, at least 10 days prior to the filing deadline, the participant should contact the Office of the Secretary by email at Hearing.Docket@nrc.gov, or by telephone at 301-415-1677, to (1) request a digital identification (ID) certificate, which allows the participant (or its counsel or representative) to digitally sign submissions and access the E-Filing system for any proceeding in which it is participating; and (2) advise the Secretary that the participant will be submitting a petition or other adjudicatory document (even in instances in which the participant, or its counsel or representative, already holds an NRC-issued digital ID certificate). Based upon this information, the Secretary will establish an electronic docket for the proceeding if the Secretary has not already established an electronic docket.

Information about applying for a digital ID certificate is available on the NRC's public website at https://www.nrc.gov/site-help/e-submittals/getting-started.html. After a digital ID certificate is obtained and a docket created, the participant must submit adjudicatory documents in Portable Document Format. Guidance on submissions is available on the NRC's public website at https://www.nrc.gov/site-help/electronic-sub-ref-mat.html. A filing is considered complete at the time the document is submitted through the NRC's E-Filing system. To be timely, an electronic filing must be submitted to the E-Filing system no later than 11:59 p.m. ET on the due date. Upon receipt of a transmission, the E-Filing system time-stamps the document and sends the submitter an email confirming receipt of the document. The E-Filing system also distributes an email that provides access to the document to the NRC's Office of the General Counsel and any others who have advised the Office of the Secretary that they wish to participate in the proceeding, so that the filer need not serve the document on those participants separately. Therefore, applicants and other participants (or their counsel or representative) must apply for and receive a digital ID certificate before adjudicatory documents are filed to obtain access to the documents via the E-Filing system.

A person filing electronically using the NRC's adjudicatory E-Filing system may seek assistance by contacting the NRC's Electronic Filing Help Desk through the “Contact Us” link located on the NRC's public website at https://www.nrc.gov/site-help/e-submittals.html, by email to MSHD.Resource@nrc.gov, or by a toll-free call at 1-866-672-7640. The NRC Electronic Filing Help Desk is available between 9 a.m. and 6 p.m., ET, Monday through Friday, except Federal holidays.

Participants who believe that they have good cause for not submitting documents electronically must file an exemption request, in accordance with 10 CFR 2.302(g), with their initial paper filing stating why there is good cause for not filing electronically and requesting authorization to continue to submit documents in paper format. Such filings must be submitted in accordance with 10 CFR 2.302(b)-(d). Participants filing adjudicatory documents in this manner are responsible for serving their documents on all other participants. Participants granted an exemption under 10 CFR 2.302(g)(2) must still meet the electronic formatting requirement in 10 CFR 2.302(g)(1), unless the participant also seeks and is granted an exemption from 10 CFR 2.302(g)(1).

Documents submitted in adjudicatory proceedings will appear in the NRC's electronic hearing docket, which is publicly available at https://adams.nrc.gov/ehd, unless excluded pursuant to an order of the presiding officer. If you do not have an NRC-issued digital ID certificate as previously described, click “cancel” when the link requests certificates and you will be automatically directed to the NRC's electronic hearing dockets where you will be able to access any publicly available documents in a particular hearing docket. Participants are requested not to include personal privacy information such as social security numbers, home addresses, or personal phone numbers in their filings unless an NRC regulation or other law requires submission of such information. With respect to copyrighted works, except for limited excerpts that serve the purpose of the adjudicatory filings and would constitute a Fair Use application, participants should not include copyrighted materials in their submission.

The following table provides the plant name, docket number, date of application, ADAMS accession number, and location in the application of the licensees' proposed NSHC determinations. For further details with respect to these license amendment applications, see the applications for amendment, which are available for public inspection in ADAMS. For additional direction on accessing information related to this document, see the “Obtaining Information and Submitting Comments” section of this document.

License Amendment Requests
Arizona Public Service Company, et al; Palo Verde Nuclear Generating Station, Units 1, 2, and 3; Maricopa County, AZ
Docket Nos | 50-528, 50-529, 50-530.
Application date | March 8, 2024.
ADAMS Accession No | ML24068A252.
Location in Application of NSHC | Pages 13-16 of the Enclosure.
Brief Description of Amendments | The proposed amendments would revise Technical Specification (TS) 3.5.1, “Safety Injection Tanks (SITs)—Operating,” and TS 3.5.2, SITs—Shutdown,” using risk-informed process for evaluations.
Proposed Determination | NSHC.
Name of Attorney for Licensee, Mailing Address | Carey Fleming, Senior Counsel, Pinnacle West Capital Corporation, 500 N 5th Street, MS 8695, Phoenix, AZ 85004.
NRC Project Manager, Telephone Number | William Orders, 301-415-3329.
DTE Electric Company; Fermi, Unit 2; Monroe County, MI
Docket No | 50-341.
Application date | March 21, 2024.
ADAMS Accession No | ML24081A326.
Location in Application of NSHC | Pages 5-8 of Attachment 1.
Brief Description of Amendment | The proposed amendment requests adoption of Technical Specification Task Force (TSTF) Travelers, TSTF-505, Revision 2, “Provide Risk-Informed Extended Completion Times—RITSTF [Risk Informed TSTF] Initiative 4b,” TSTF-439, Revision 2, “Eliminate Second Completion Times Limiting Time From Discovery of Failure to Meet an LCO [limiting condition for operation],” and TSTF-591, Revision 0, “Revise Risk Informed Completion Time (RICT) Program.”
Proposed Determination | NSHC.
Name of Attorney for Licensee, Mailing Address | Jon P. Christinidis, DTE Electric Company, Expert Attorney—Regulatory, 1635 WCB, One Energy Plaza, Detroit, MI 48226.
NRC Project Manager, Telephone Number | Surinder Arora, 301-415-1421.
Indiana Michigan Power Company; Donald C. Cook Nuclear Plant, Units 1 and 2; Berrien County, MI
Docket Nos | 50-315, 50-316.
Application date | March 6, 2024.
ADAMS Accession No | ML24073A234.
Location in Application of NSHC | Pages 18-20 of Enclosure 2.
Brief Description of Amendments | The proposed amendments would modify the Donald C. Cook Nuclear Plant, Units 1 and 2, licensing basis, by the addition of a license condition, to allow for the implementation of the provisions of 10 CFR 50.69, “Risk-Informed Categorization and Treatment of Structures, Systems and Components for Nuclear Power Reactors.” The provisions of 10 CFR 50.69 allow adjustment of the scope of equipment subject to special treatment controls (e.g., quality assurance, testing, inspection, condition monitoring, assessment, and evaluation).
Proposed Determination | NSHC.
Name of Attorney for Licensee, Mailing Address | Robert B. Haemer, Senior Nuclear Counsel, Indiana Michigan Power Company, One Cook Place, Bridgman, MI 49106.
NRC Project Manager, Telephone Number | Scott Wall, 301-415-2855.
Pacific Gas and Electric Company; Diablo Canyon Power Plant, Units 1 and 2; San Luis Obispo County, CA
Docket Nos | 50-275, 50-323.
Application date | February 28, 2024.
ADAMS Accession No | ML24059A448.
Location in Application of NSHC | Pages 7-9 of the Enclosure.
Brief Description of Amendments | The proposed amendments would revise Technical Specification 5.6.6, “Reactor Coolant System (RCS) Pressure and Temperature Limits Report (PTLR),” regarding the fluence calculational methodology used to determine the pressure and temperature limits.
Proposed Determination | NSHC.
Name of Attorney for Licensee, Mailing Address | Jennifer Post, Esq., Pacific Gas and Electric Co., 77 Beale Street, Room 3065, Mail Code B30A, San Francisco, CA 94105.
NRC Project Manager, Telephone Number | Samson Lee, 301-415-3168.
Southern Nuclear Operating Company, Inc.; Joseph M. Farley Nuclear Plant, Units 1 and 2; Houston County, AL
Docket Nos | 50-348, 50-364.
Application date | April 5, 2024.
ADAMS Accession No | ML24096B775.
Location in Application of NSHC | Pages E-5 through E-7 of the Enclosure.
Brief Description of Amendments | The proposed amendments would revise the Joseph M. Farley Nuclear Plant, Units 1 and 2, Technical Specification 3.6.6, “Containment Spray and Cooling Systems,” to revise the frequency of Surveillance Requirement 3.6.6.8.
Proposed Determination | NSHC.
Name of Attorney for Licensee, Mailing Address | Millicent Ronnlund, Vice President and General Counsel, Southern Nuclear Operating Co., Inc., P.O. Box 1295, Birmingham, AL 35201-1295.
NRC Project Manager, Telephone Number | Zachary Turner, 301-415-6303.
Southern Nuclear Operating Company, Inc.; Vogtle Electric Generating Plant, Units 1 and 2; Burke County, GA
Docket Nos | 50-424, 50-425.
Application date | March 20, 2024.
ADAMS Accession No | ML24080A455.
Location in Application of NSHC | Pages E-12 and E-13 of the Enclosure.
Brief Description of Amendments | The proposed amendments would revise emergency diesel generator frequency and voltage ranges for Technical Specification 3.8.1, “AC [Alternating Current] Sources—Operating,” Surveillance Requirements.
Proposed Determination | NSHC.
Name of Attorney for Licensee, Mailing Address | Millicent Ronnlund, Vice President and General Counsel, Southern Nuclear Operating Co., Inc., P.O. Box 1295, Birmingham, AL 35201-1295.
NRC Project Manager, Telephone Number | John Lamb, 301-415-3100.
Tennessee Valley Authority; Sequoyah Nuclear Plant, Units 1 and 2; Hamilton County, TN
Docket Nos | 50-327, 50-328.
Application date | April 15, 2024.
ADAMS Accession No | ML24106A057.
Location in Application of NSHC | Pages E7 and E8 of the Enclosure.
Brief Description of Amendments | The proposed amendments would revise the Sequoyah Nuclear Plant, Units 1 and 2, Technical Specification (TS) 3.8.1, “AC [alternating current] Sources—Operating,” to delete Surveillance Requirement (SR) 3.8.1.8, and would revise TS 3.8.2, “AC Sources—Shutdown,” to delete the reference to SR 3.8.1.8.
Proposed Determination | NSHC.
Name of Attorney for Licensee, Mailing Address | David Fountain, Executive VP and General Counsel, Tennessee Valley Authority, 6A West Tower, 400 West Summit Hill Drive, Knoxville, TN 37902.
NRC Project Manager, Telephone Number | Perry Buckberg, 301-415-1383.
Vallecitos Boiling Water Reactor, Alameda County, CA
Docket No | 50-18.
Application dates | September 7, 2023, as supplemented by letters dated September 15, 2023, October 31, 2023, and March 25, 2024.
ADAMS Accession Nos | ML23250A267, ML23261A591 (package), ML23304A300, ML24085A792.
Location in Application of NSHC | Pages 1-2 of Enclosure 1 to the supplement dated March 25, 2024.
Brief Description of Amendment | The proposed amendment would approve the license termination plan which implements the licensing decommissioning strategy that is outlined in the limited post-shutdown decommissioning activities report.
Proposed Determination | NSHC.
Name of Attorney(s) for Licensee, Mailing Address | Angela Thornhill, General Counsel, GE-Hitachi Nuclear Energy Americas LLC, 3901 Castle Hayne Road, Wilmington, NC 28402; and Gregory Di Carlo, Vice President/General Counsel, NorthStar Group Services, Inc., 15760 West Power Street, NA1A, Crystal River, FL 34428.
NRC Project Manager, Telephone Number | Jack Parrott, 301-415-6634.
Vistra Operations Company LLC; Comanche Peak Nuclear Power Plant, Unit Nos. 1 and 2; Somervell County, TX
Docket Nos | 50-445, 50-446.
Application dates | February 28, 2024, as supplemented by letter dated April 1, 2024.
ADAMS Accession Nos | ML24059A390, ML24092A236.
Location in Application of NSHC | Pages 1-3 of the Enclosure.
Brief Description of Amendments | The proposed amendments would revise technical specifications to adopt Technical Specification Task Force (TSTF) Traveler TSTF-591, “Revise Risk-Informed Completion Time (RICT) Program.”
Proposed Determination | NSHC.
Name of Attorney for Licensee, Mailing Address | Timothy P. Matthews, Esq., Morgan, Lewis and Bockius, 1111 Pennsylvania Avenue NW, Washington, DC 20004.
NRC Project Manager, Telephone Number | Samson Lee, 301-415-3168.
Vistra Operations Company LLC; Comanche Peak Nuclear Power Plant, Unit Nos. 1 and 2; Somervell County, TX
Docket Nos | 50-445, 50-446.
Application date | February 28, 2024.
ADAMS Accession No | ML24059A386.
Location in Application of NSHC | Pages 2-3 of Enclosure.
Brief Description of Amendments | The proposed amendments would revise technical specifications to adopt Technical Specification Task Force (TSTF) Traveler TSTF-589, “Eliminate Automatic Diesel Generator Start During Shutdown.”
Proposed Determination | NSHC.
Name of Attorney for Licensee, Mailing Address | Timothy P. Matthews, Esq., Morgan, Lewis and Bockius, 1111 Pennsylvania Avenue NW, Washington, DC 20004.
NRC Project Manager, Telephone Number | Samson Lee, 301-415-3168.

III. Notice of Issuance of Amendments to Facility Operating Licenses and Combined Licenses

During the period since publication of the last monthly notice, the Commission has issued the following amendments. The Commission has determined for each of these amendments that the application complies with the standards and requirements of the Atomic Energy Act of 1954, as amended (the Act), and the Commission's rules and regulations. The Commission has made appropriate findings as required by the Act and the Commission's rules and regulations in 10 CFR chapter I, which are set forth in the license amendment.

A notice of consideration of issuance of amendment to facility operating license or combined license, as applicable, proposed NSHC determination, and opportunity for a hearing in connection with these actions, were published in the Federal Register as indicated in the safety evaluation for each amendment.

Unless otherwise indicated, the Commission has determined that these amendments satisfy the criteria for categorical exclusion in accordance with 10 CFR 51.22. Therefore, pursuant to 10 CFR 51.22(b), no environmental impact statement or environmental assessment need be prepared for these amendments. If the Commission has prepared an environmental assessment under the special circumstances provision in 10 CFR 51.22(b) and has made a determination based on that assessment, it is so indicated in the safety evaluation for the amendment.

For further details with respect to each action, see the amendment and associated documents such as the Commission's letter and safety evaluation, which may be obtained using the ADAMS accession numbers indicated in the following table. The safety evaluation will provide the ADAMS accession numbers for the application for amendment and the Federal Register citation for any environmental assessment. All of these items can be accessed as described in the “Obtaining Information and Submitting Comments” section of this document.

License Amendment Issuance(s)
Constellation FitzPatrick, LLC and Constellation Energy Generation, LLC; James A. FitzPatrick Nuclear Power Plant; Oswego County, NY
Docket No | 50-333.
Amendment Date | March 28, 2024.
ADAMS Accession No | ML24068A053.
Amendment No | 354.
Brief Description of Amendment | The amendment modified Surveillance Requirement (SR) 3.3.1.2.4 to incorporate an additional acceptance criterion based on a higher signal to noise ratio as provided in General Electric Service Information Letter 478 dated December 16, 1988. Specifically, an “or” statement was added to SR 3.3.1.2.4 as follows: “or Verify count rate is ≥0.7 [counts per second] cps with a signal to noise ratio ≥20:1.”
Public Comments Received as to Proposed NSHC (Yes/No) | No.
Duke Energy Carolinas, LLC; McGuire Nuclear Station, Units 1 and 2; Mecklenburg County, NC
Docket Nos | 50-369, 50-370.
Amendment Date | April 8, 2024.
ADAMS Accession No | ML24052A306.
Amendment Nos | 331 (Unit 1) and 310 (Unit 2).
Brief Description of Amendments | The amendments modified the licensing basis for the implementation of the provisions of 10 CFR 50.69, “Risk-informed categorization and treatment of structures, systems and components for nuclear power reactors,” which would allow adjustment of the scope of equipment subject to special treatment controls.
Public Comments Received as to Proposed NSHC (Yes/No) | No.
Southern Nuclear Operating Company, Inc.; Edwin I. Hatch Nuclear Plant, Units 1 and 2; Appling County, GA
Docket Nos | 50-321, 50-366.
Amendment Date | April 24, 2024.
ADAMS Accession No | ML23032A332.
Amendment Nos | 322 (Unit 1) and 267 (Unit 2).
Brief Description of Amendments | The amendments revised the renewed facility operating licenses and technical specifications Table 1.1-1, “MODES,” for Edwin I. Hatch Nuclear Plant, Units 1 and 2, to relax the required number of fully tensioned reactor pressure vessel head closure bolts.
Public Comments Received as to Proposed NSHC (Yes/No) | No.
Southern Nuclear Operating Company, Inc.; Vogtle Electric Generating Plant, Units 1 and 2; Burke County, GA
Docket Nos | 50-424, 50-425.
Amendment Date | April 10, 2024.
ADAMS Accession No | ML24030A909.
Amendment Nos | 224 (Unit 1) and 207 (Unit 2).
Brief Description of Amendments | The amendments revised Technical Specification (TS) 3.4.14, “RCS [Reactor Coolant System] Pressure Isolation Valve (PIV) Leakage,” Surveillance Requirement 3.4.14.1 to limit required testing to frequencies specified in the Inservice Testing Program in accordance with the American Society of Mechanical Engineers Code for Operation and Maintenance of Nuclear Power Plants by removing all other SR 3.4.14.1 frequency testing criteria from the current TSs.
Public Comments Received as to Proposed NSHC (Yes/No) | No.
Susquehanna Nuclear, LLC and Allegheny Electric Cooperative, Inc.; Susquehanna Steam Electric Station, Units 1 and 2; Luzerne County, PA
Docket Nos | 50-387, 50-388.
Amendment Date | April 22, 2024.
ADAMS Accession No | ML24082A137.
Amendment Nos | 287 (Unit 1) and 271 (Unit 2).
Brief Description of Amendments | The amendments revised the technical specifications to adopt the Technical Specifications Task Force (TSTF) Traveler, TSTF-568, Revision 2, “Revise Applicability of BWR/4 TS 3.6.2.5 and TS 3.6.3.2,” for applicability and actions of Technical Specification 3.6.3.3, “Primary Containment Oxygen Concentration.” The changes simplify and clarify the applicability statements, remove the undefined term “scheduled reactor shutdown,” and provide adequate terminal actions.
Public Comments Received as to Proposed NSHC (Yes/No) | No.
Tennessee Valley Authority; Watts Bar Nuclear Plant, Units 1 and 2; Rhea County, TN
Docket Nos | 50-390, 50-391.
Amendment Date | April 15, 2024.
ADAMS Accession No | ML24072A005.
Amendment Nos | 165 (Unit 1) and 72 (Unit 2).
Brief Description of Amendments | The amendments revised the Watts Bar Nuclear Plant (Watts Bar), Units 1 and 2, Technical Specification (TS) 4.2.1, “Fuel Assemblies,” to increase the maximum number of tritium producing burnable absorber rods, that can be irradiated in the core to 2,496. The amendments also revised Watts Bar, Unit 1, TS 5.9.6, “Reactor Coolant System (RCS) Pressure and Temperature Limits Report (PTLR),” to be consistent with Watts Bar, Unit 2, TS 5.9.6, and revised both units' TS 5.9.6.b to add WCAP-18124-NP-A Rev. 0 Supplement 1-NP-A, Rev. 0, “Fluence Determination with RAPTOR-M3G and FERRET—Supplement for Extended Beltline Materials.” The amendments also revised the Watts Bar Dual-Unit Update Final Safety Analysis Report to modify the source term for the design basis accident analyses to allow the core fission product inventory to be calculated using an updated version of the ORIGEN code.
Public Comments Received as to Proposed NSHC (Yes/No) | No.
Virginia Electric and Power Company, Dominion Nuclear Company; North Anna Power Station, Unit Nos. 1 and 2; Louisa County, VA; Virginia Electric and Power Company; Surry Power Station, Unit Nos. 1 and 2; Surry County, VA
Docket Nos | 50-280, 50-281, 50-338, 50-339.
Amendment Date | April 22, 2024.
ADAMS Accession No | ML24054A014.
Amendment Nos | North Anna—297 (Unit 1), 280 (Unit 2); Surry—317 (Unit 1) and 317 (Unit 2).
Brief Description of Amendments | The amendments modified the Emergency Plan staffing and staff augmentation times as described in the request, as supplemented.
Public Comments Received as to Proposed NSHC (Yes/No) | No.

IV. Notice of Issuance of Amendments to Facility Operating Licenses and Combined Licenses and Final Determination of No Significant Hazards Consideration and Opportunity for a Hearing (Exigent Circumstances or Emergency Situation)

Since publication of the last monthly notice, the Commission has issued the following amendment. The Commission has determined for this amendment that the application for the amendment complies with the standards and requirements of the Atomic Energy Act of 1954, as amended (the Act), and the Commission's rules and regulations. The Commission has made appropriate findings as required by the Act and the Commission's rules and regulations in 10 CFR chapter I, which are set forth in the license amendment.

Because of exigent circumstances or emergency situation associated with the date the amendment was needed, there was not time for the Commission to publish, for public comment before issuance, its usual notice of consideration of issuance of amendment, proposed NSHC determination, and opportunity for a hearing.

In circumstances where failure to act in a timely way would have resulted, for example, in derating or shutdown of a nuclear power plant or in prevention of either resumption of operation or of increase in power output up to the plant's licensed power level (an emergency situation), the Commission may not have had an opportunity to provide for public comment on its NSHC determination. In such case, the license amendment has been issued without opportunity for comment prior to issuance. Nonetheless, the State has been consulted by telephone whenever possible.

Under its regulations, the Commission may issue and make an amendment immediately effective, notwithstanding the pendency before it of a request for a hearing from any person, in advance of the holding and completion of any required hearing, where it has determined that NSHC is involved. The Commission has applied the standards of 10 CFR 50.92 and has made a final determination that the amendment(s) involves NSHC. The basis for this determination is contained in the NRC staff safety evaluation related to each action. Accordingly, the amendment has been issued and made effective as indicated. For those amendments that have not been previously noticed in the Federal Register, within 60 days after the date of publication of this notice, any persons (petitioner) whose interest may be affected by this action may file a request for a hearing and petition for leave to intervene (petition) with respect to the action. Petitions shall be filed in accordance with the guidance concerning the Commission's “Agency Rules of Practice and Procedure” in 10 CFR part 2 as discussed in section II.A of this document.

Unless otherwise indicated, the Commission has determined that the amendment satisfies the criteria for categorical exclusion in accordance with 10 CFR 51.22. Therefore, pursuant to 10 CFR 51.22(b), no environmental impact statement or environmental assessment need be prepared for this amendment. If the Commission has prepared an environmental assessment under the special circumstances provision in 10 CFR 51.12(b) and has made a determination based on that assessment, it is so indicated in the safety evaluation for the amendment.

For further details with respect to this action, see the amendment and associated documents such as the Commission's letter and safety evaluation, which may be obtained using the ADAMS accession number indicated in the following table. The safety evaluation will provide the ADAMS accession number(s) for the application for amendment and the Federal Register citation for any environmental assessment. All of these items can be accessed as described in the “Obtaining Information and Submitting Comments” section of this document.

License Amendment Issuance—Emergency Circumstances
Nebraska Public Power District; Cooper Nuclear Station; Nemaha County, NE
Docket No | 50-298.
Amendment Date | April 5, 2024.
ADAMS Accession No | ML24096A120.
Amendment No | 275.
Brief Description of Amendment | The amendment changed Technical Specification (TS) 3.3.1.1, “Reactor Protection System (RPS) Instrumentation.” Specifically, a temporary footnote was applied immediately to Function 8, “Turbine Stop Valve—Closure,” of TS Table 3.3.1.1-1, “Reactor Protection System Instrumentation.” The current design configuration of the turbine stop valve position switches that input to the RPS did not meet the channel independence criteria. This temporary footnote allows Nebraska Public Power District to not enter the TS 3.3.1.1, Condition A or B for the channel independence condition for a period ending no later than startup from Refuel Outage 33. The amendment was issued under emergency circumstances as provided in the provisions of 10 CFR 50.91(a)(5) because of the time critical nature of the amendment.
Local Media Notice (Yes/No) | No.
Public Comments Requested as to Proposed NSHC (Yes/No) | No.

Dated: May 3, 2024.
For the Nuclear Regulatory Commission.
Jamie Pelton,
Deputy Director, Division of Operating Reactor Licensing, Office of Nuclear Reactor Regulation.

[FR Doc. 2024-10034 Filed 5-13-24; 8:45 am]

BILLING CODE 7590-01-P